DEPARTMENT OF COMMERCE

National Oceanic and Atmospheric Administration

50 CFR Part 679

[Docket No. 231201-0284; RTID 0648-XD436]

Fisheries of the Exclusive Economic Zone Off Alaska; Gulf of Alaska; Proposed 2024 and 2025 Harvest Specifications for Groundfish

AGENCY: National Marine Fisheries Service (NMFS), National Oceanic and Atmospheric Administration (NOAA), Commerce.

ACTION: Proposed rule; harvest specifications and request for comments.

SUMMARY: NMFS proposes 2024 and 2025 harvest specifications, apportionments, and Pacific halibut prohibited species catch limits for the groundfish fishery of the Gulf of Alaska (GOA). This action is necessary to establish harvest limits for groundfish during the 2024 and 2025 fishing years and to accomplish the goals and objectives of the Fishery Management Plan for Groundfish of the Gulf of Alaska. The 2024 harvest specifications supersede those previously set in the final 2023 and 2024 harvest specifications, and the 2025 harvest specifications will be superseded in early 2025 when the final 2025 and 2026 harvest specifications are published. The intended effect of this action is to conserve and manage the groundfish resources in the GOA in accordance with the Magnuson-Stevens Fishery Conservation and Management Act (Magnuson-Stevens Act).

DATES: Comments must be received by January 8, 2024.

ADDRESSES: You may submit comments on this document, identified by NOAA-NMFS-2023-0133, by any of the following methods:

• Electronic Submission: Submit all electronic public comments via the Federal e-Rulemaking Portal. Go to https://www.regulations.gov and enter NOAA-NMFS-2023-0133 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A”; in the required fields if you wish to remain anonymous).

Electronic copies of the Alaska Groundfish Harvest Specifications Final Environmental Impact Statement (Final EIS), Record of Decision (ROD) for the Final EIS, and the annual Supplementary Information Reports (SIR) to the Final EIS prepared for this action are available from https://www.regulations.gov. An updated 2024 SIR for the final 2024 and 2025 harvest specifications will be available from the same source. The final 2022 Stock Assessment and Fishery Evaluation (SAFE) report for the groundfish resources of the GOA, dated December 2022, is available from the North Pacific Fishery Management Council (Council) at 1007 West Third, Suite 400, Anchorage, AK 99501-2252, phone 907-271-2809, or from the Council's website at https://www.npfmc.org. The 2023 SAFE report for the GOA will be available from the same source.

FOR FURTHER INFORMATION CONTACT: Abby Jahn, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Act (16 U.S.C. 1801 et seq.). Regulations governing U.S. fisheries and implementing the FMP appear at 50 CFR parts 600, 679, and 680.

The FMP and its implementing regulations require that NMFS, after consultation with the Council, specify the total allowable catch (TAC) for each target species, the sum of which must be within the optimum yield (OY) range of 116,000 to 800,000 metric tons (mt) (§§ 679.20(a)(1)(i)(B) and 679.20(a)(2)). Section 679.20(c)(1) further requires NMFS to publish and solicit public comment on proposed annual TACs and apportionments thereof for each target species, Pacific halibut prohibited species catch (PSC) limits, and seasonal allowances of pollock and Pacific cod. The proposed harvest specifications in tables 1 through 19 of this rule satisfy these requirements. For 2024 and 2025, the sum of the proposed TAC amounts is 476,537 mt.

Under § 679.20(c)(3), NMFS will publish the final 2024 and 2025 harvest specifications after (1) considering comments received within the comment period (see DATES), (2) consulting with the Council at its December 2023 meeting, (3) considering information presented in the 2024 SIR to the Final EIS that assesses the need to prepare a Supplemental EIS (see ADDRESSES), and (4) considering information presented in the final 2023 SAFE report prepared for the 2024 and 2025 groundfish fisheries.

Other Actions Affecting the 2024 and 2025 GOA Harvest Specifications

Pacific Cod Trawl Cooperative Program

NMFS published a final rule implementing Amendment 122 to the Fishery Management Plan for Groundfish of the Bering Sea and Aleutian Islands Management Area (BSAI) (88 FR 53704, August 8, 2023), establishing the Pacific Cod Trawl Cooperative Program (PCTC Program) to allocate BSAI Pacific cod quota share to qualifying groundfish License Limitation Program (LLP) license holders and qualifying processors. The PCTC Program is a limited access privilege program for the harvest of Pacific cod in the BSAI trawl catcher vessel (CV) sector.

The PCTC Program modifies existing GOA sideboard limits and associated GOA halibut PSC limits for non-exempt American Fisheries Act (AFA) CVs and LLP license holders and closes directed fishing where the revised sideboard limits are too small to support a directed fishery. All GOA non-exempt AFA CVs and associated AFA LLP licenses are sideboarded in aggregate for all GOA groundfish fishing activity and for GOA halibut PSC based on their GOA catch history during the qualifying years 2009 through 2019, except when participating in the Central Gulf of Alaska (CGOA) Rockfish Program. In addition, the ratio used to apportion GOA halibut PSC limits is modified and the five seasonal apportionments based on that sideboard ratio is reduced to a single aggregate annual amount. Amendment 122 also closes directed fishing to all GOA non-exempt AFA CVs and LLP licenses for the following species categories: Southeast Outside (SEO) District of the Eastern GOA pollock, Western GOA shallow-water flatfish, Central and Eastern GOA deep-water flatfish, Central GOA dusky rockfish, and Eastern GOA and Central GOA Pacific ocean perch. NMFS will no longer publish AFA Program sideboard limits for these specific species or species groups in the Federal Register as part of the annual groundfish harvest specifications and instead Table 56 to 50 CFR part 679 lists that directed fishing for these species is prohibited to non-exempt AFA CVs. Amendment 122 and its implementing regulations affect the calculation and establishment of the groundfish sideboard limits and halibut PSC limits discussed below under American Fisheries Act (AFA) Catcher/Processor and Catcher Vessel Groundfish Harvest and PSC Limits.

Proposed Acceptable Biological Catch (ABC) and TAC Specifications

In October 2023, the Council's Scientific and Statistical Committee (SSC), its Advisory Panel (AP), and the Council reviewed the most recent biological and harvest information about the condition of the GOA groundfish stocks. The Council's GOA Groundfish Plan Team (Plan Team) compiled and presented this information in the final 2022 SAFE report for the GOA groundfish fisheries, dated December 2022 (see ADDRESSES). The SAFE report contains a review of the latest scientific analyses and estimates of each species' biomass and other biological parameters including possible future condition of the stocks, as well as summaries of the available information on the GOA ecosystem and the economic condition of the groundfish fisheries off Alaska. The SAFE provides information to the Council and NMFS for recommending and setting, respectively, annual harvest levels for each stock; documenting significant trends or changes in the resource, marine ecosystems, and fisheries over time; and assessing the relative success of existing Federal fishery management programs. An appendix to the SAFE is the Ecosystem Status Reports (ESRs). The ESRs compile and summarize information about the status of the Alaska marine ecosystems for the SSC, AP, Council, NMFS, and the public, and they are updated annually. These ESRs include ecosystem report cards, ecosystem assessments, and ecosystem status indicators (i.e., climate indices, sea surface temperature), which together provide context for ecosystem-based fisheries management in Alaska. The ESR informs stock assessments and is integrated in the annual harvest recommendations through inclusion in stock assessment-specific risk tables. Also, the ESR information provides context for the SSC's recommendations for Overfishing Level (OFL) and ABC, as well as for the Council's TAC recommendations. The SAFE reports and the ESRs are presented at the October and December Council meetings before the SSC, AP, and the Council make groundfish harvest recommendations and aid NMFS in implementing these annual groundfish harvest specifications.

The Plan Team, SSC, and Council also reviewed preliminary survey data from 2023 surveys, updates on ecological and socioeconomic profiles for certain species, summaries of potential changes to models and methodologies, and preliminary revised ESRs. From these data and analyses, the Plan Team recommends, and the SSC sets, an OFL and ABC for each species and species group. The amounts proposed for the 2024 and 2025 OFLs and ABCs are based on the 2022 SAFE report. The AP and Council recommended that the proposed 2024 and 2025 TACs be set equal to proposed ABCs for all species and species groups, with the exception of the species and species groups further discussed below. The proposed OFLs, ABCs, and TACs could be changed in the final harvest specifications depending on the most recent scientific information contained in the final 2023 SAFE report. The individual stock assessments that comprise, in part, the 2022 SAFE report are available at https://www.fisheries.noaa.gov/alaska/population-assessments/north-pacific-groundfish-stock-assessment-and-fishery-evaluation. The final 2023 SAFE report will be available from the same source.

In November 2023, the Plan Team will update the 2022 SAFE report to include new information collected during 2023, such as NMFS stock surveys, revised stock assessments, and catch data. The Plan Team will compile this information and present the draft 2023 SAFE report at the December 2023 Council meeting. At that meeting, the SSC and the Council will review the 2023 SAFE report, and the Council will approve the 2023 SAFE report. The Council will consider information in the 2023 SAFE report, recommendations from the November 2023 Plan Team meeting and December 2023 SSC and AP meetings, public testimony, and relevant written public comments in making its recommendations for the final 2024 and 2025 harvest specifications. Pursuant to § 679.20(a)(2) and (3), the Council could recommend adjusting the final TACs, if warranted, based on the biological condition of groundfish stocks or a variety of socioeconomic considerations, or if required to cause the sum of TACs to fall within the OY range.

Potential Changes Between Proposed and Final Specifications

In previous years, the most significant changes (relative to the amount of assessed tonnage of fish) to the OFLs and ABCs from the proposed to the final harvest specifications have been based on the most recent NMFS stock surveys. These surveys provide updated estimates of stock biomass and spatial distribution, and inform changes to the models used for producing stock assessments. At the September 2023 Plan Team meeting, NMFS scientists presented updated and new survey results. Scientists also discussed potential changes to assessment models, and accompanying preliminary stock estimates. At the October 2023 Council meeting, the SSC reviewed this information. Species and species groups with proposed changes to assessment models include pollock, demersal shelf rockfish, other rockfish, and shortraker rockfish. Model changes may result in changes to final OFLs, ABCs, and TACs.

In November 2023, the Plan Team will consider updated survey results and updated stock assessments for groundfish, which will be included in the draft 2023 SAFE report. If the 2023 SAFE report indicates that the stock biomass trend is increasing for a species, then the final 2024 and 2025 harvest specifications for that species may reflect an increase from the proposed harvest specifications. Conversely, if the 2023 SAFE report indicates that the stock biomass trend is decreasing for a species, then the final 2024 and 2025 harvest specifications may reflect a decrease from the proposed harvest specifications.

The proposed 2024 and 2025 OFLs and ABCs are based on the best available biological and scientific information, including projected biomass trends, information on assumed distribution of stock biomass, and revised technical methods used to calculate stock biomass. The FMP specifies the tiers to be used to calculate OFLs and ABCs. The tier applicable to a particular stock or stock complex is determined by the level of reliable information available to the fisheries scientists. This information is categorized into a successive series of six tiers to define OFLs and ABCs, with Tier 1 representing the highest level of information quality available and Tier 6 representing the lowest level of information quality available. The Plan Team used the FMP tier structure to calculate OFLs and ABCs for each groundfish species. The SSC adopted the proposed 2024 and 2025 OFLs and ABCs recommended by the Plan Team for all groundfish species. The proposed 2024 and 2025 TACs are based on the best available biological and socioeconomic information. In making its recommendations, the Council adopted the SSC's OFL and ABC recommendations and the AP's TAC recommendations for all groundfish species.

Specification and Apportionment of TAC Amounts

The combined Western and Central Regulatory Areas and the West Yakutat (WYK) District of the Eastern Regulatory Area (the W/C/WYK) pollock TAC and the GOA Pacific cod TACs are set to account for the State of Alaska's (State) guideline harvest levels (GHL) for the State waters pollock and Pacific cod fisheries so that the ABCs are not exceeded. These reductions are described below. The shallow-water flatfish TAC in the Western RegulatoryArea, arrowtooth flounder TACs in the Western Regulatory Area and the SEO District, and flathead sole TAC in the Western Regulatory Area are set to allow for increased harvest opportunities for these target species while conserving the halibut PSC limit for use in other fisheries. The Atka mackerel TAC is set to accommodate incidental catch amounts (ICA) in other fisheries. The other rockfish TAC in the SEO District of the Eastern Regulatory Area is set to reduce the amount of discards of the species in that complex.

NMFS's proposed apportionments of groundfish species are based on the distribution of biomass among the regulatory areas over which NMFS manages the species. Additional regulations govern the apportionment of pollock, Pacific cod, and sablefish. Additional detail on apportionments of pollock, Pacific cod, and sablefish are described below.

The ABC for the pollock stock in the W/C/WYK Regulatory Area accounts for the GHL established by the State for the Prince William Sound (PWS) pollock fishery. The Plan Team, SSC, AP, and Council have recommended that the sum of all State waters and Federal waters pollock removals from the GOA not exceed ABC recommendations. At the November 2018 Plan Team meeting, State fisheries managers recommended setting the future PWS GHL at 2.5 percent of the annual W/C/WYK pollock ABC. For 2024 and 2025, this yields a PWS pollock GHL of 4,027 mt, an increase of 8.17 percent from the 2023 PWS GHL of 3,723 mt. After reductions for the PWS GHL, the remaining 2024 and 2025 pollock ABC for the combined W/C/WYK areas is then apportioned among four statistical areas (Areas 610, 620, 630, and 640) as both ABCs and TACs, as described below and detailed in table 1. The total ABCs and TACs for the four statistical areas, plus the State GHL, do not exceed the combined W/C/WYK ABC. The proposed W/C/WYK 2024 and 2025 pollock ABC is 161,080 mt, and the proposed TAC is 157,053 mt.

Apportionments of pollock to the W/C/WYK management areas are considered to be apportionments of annual catch limits (ACLs) rather than apportionments of ABCs. This more accurately reflects that such apportionments address management concerns, rather than biological or conservation concerns. In addition, apportionments of the ACL in this manner allow NMFS to balance any transfer of TAC among Areas 610, 620, and 630 pursuant to § 679.20(a)(5)(iv)(B) to ensure that the combined W/C/WYK ACL, ABC, and TAC are not exceeded.

NMFS proposes pollock TACs in the Western (Area 610) and Central (Areas 620 and 630) Regulatory Areas and the West Yakutat (Area 640) and the SEO (Area 650) Districts of the GOA (see table 1). NMFS also proposes seasonal apportionment of the annual pollock TAC in the Western and Central Regulatory Areas of the GOA among Statistical Areas 610, 620, and 630. These apportionments are divided equally among the following two seasons: the A season (January 20 through May 31) and the B season (September 1 through November 1) (§§ 679.23(d)(2) and 679.20(a)(5)(iv)). Additional detail is provided below; table 2 lists these amounts.

The proposed 2024 and 2025 Pacific cod TACs are set to accommodate the State's GHLs for Pacific cod in State waters in the Western and Central Regulatory Areas, as well as in PWS (in the Eastern Regulatory Area) (see table 1). The Plan Team, SSC, AP, and Council recommended that the sum of all State waters and Federal waters Pacific cod removals from the GOA not exceed ABC recommendations. Accordingly, the Council recommended the 2024 and 2025 Pacific cod TACs in the Western, Central, and Eastern Regulatory Areas to account for State GHLs. Therefore, the proposed 2024 and 2025 Pacific cod TACs are less than the proposed ABCs by the following amounts: (1) Western GOA, 2,062 mt; (2) Central GOA, 3,414 mt; and (3) Eastern GOA, 539 mt. These amounts reflect the State's 2024 and 2025 GHLs in these areas, which are 30 percent of the Western GOA proposed ABC, and 25 percent of the Eastern and Central GOA proposed ABCs.

The Western and Central GOA Pacific cod TACs are allocated among various gear and operational sectors. NMFS also establishes seasonal apportionments of the annual Pacific cod TACs in the Western and Central Regulatory Areas. The Pacific cod sector and seasonal apportionments are discussed in detail in a subsequent section and in table 4 of this rule.

The Council's recommendation for sablefish area apportionments takes into account the prohibition on the use of trawl gear in the SEO District of the Eastern Regulatory Area (§ 679.7(b)(1)) and makes available 5 percent of the Eastern Regulatory Area (WYK and SEO Districts combined) TAC to vessels using trawl gear for use as incidental catch in other trawl groundfish fisheries in the WYK District (§ 679.20(a)(4)(i)). Additional detail is provided below. tables 5 and 6 list the proposed 2024 and 2025 allocations of the sablefish TAC to fixed gear and trawl gear in the GOA.

For 2024 and 2025, the Council recommends, and NMFS proposes, the OFLs, ABCs, and TACs listed in table 1. These amounts are consistent with the biological condition of groundfish stocks as described in the 2022 SAFE report. The proposed ABCs reflect harvest amounts that are less than the specified overfishing levels. The proposed TACs are adjusted for other biological and socioeconomic considerations. The sum of the proposed TACs for all GOA groundfish is 476,537 mt for 2024 and 2025, which is within the OY range specified by the FMP. These proposed amounts and apportionments by area, season, and sector are subject to change pending consideration of the 2023 SAFE report, public comment, and the Council's recommendations for the final 2024 and 2025 harvest specifications during its December 2023 meeting.

Table 1—Proposed 2024 and 2025 OFLs, ABCs, and TACs of Groundfish for the Western/Central/West Yakutat, Western, Central, and Eastern Regulatory Areas, the West Yakutat and Southeast Outside Districts of the Eastern Regulatory Area, and Gulfwide District of the Gulf of Alaska
[Values are rounded to the nearest metric ton]
Species | Area ¹ | OFL | ABC | TAC ²
Pollock ² | Shumagin (610) | n/a | 29,156 | 29,156
| Chirikof (620) | n/a | 83,283 | 83,283
| Kodiak (630) | n/a | 36,478 | 36,478
| WYK (640) | n/a | 8,136 | 8,136
| W/C/WYK (subtotal) | 186,101 | 161,080 | 157,053
| SEO (650) | 15,150 | 11,363 | 11,363
| Total | 201,251 | 172,443 | 168,416
Pacific cod ³ | W | n/a | 6,873 | 4,811
| C | n/a | 13,655 | 10,241
| E | n/a | 2,155 | 1,616
| Total | 27,507 | 22,683 | 16,668
Sablefish ⁴ | W | n/a | 4,626 | 4,626
| C | n/a | 8,819 | 8,819
| WYK | n/a | 2,669 | 2,669
| SEO | n/a | 4,981 | 4,981
| Subtotal TAC | n/a | n/a | 21,095
| Total | 48,561 | 41,539 | n/a
Shallow-water flatfish ⁵ | W | n/a | 23,299 | 13,250
| C | n/a | 27,737 | 27,737
| WYK | n/a | 2,774 | 2,774
| SEO | n/a | 1,664 | 1,664
| Total | 68,015 | 55,474 | 45,425
Deep-water flatfish ⁶ | W | n/a | 255 | 255
| C | n/a | 2,068 | 2,068
| WYK | n/a | 1,383 | 1,383
| SEO | n/a | 2,013 | 2,013
| Total | 6,802 | 5,719 | 5,719
Rex sole | W | n/a | 3,314 | 3,314
| C | n/a | 13,425 | 13,425
| WYK | n/a | 1,453 | 1,453
| SEO | n/a | 2,905 | 2,905
| Total | 25,652 | 21,097 | 21,097
Arrowtooth flounder | W | n/a | 30,093 | 14,500
| C | n/a | 64,200 | 64,200
| WYK | n/a | 7,789 | 7,789
| SEO | n/a | 15,932 | 6,900
| Total | 141,008 | 118,014 | 93,389
Flathead sole | W | n/a | 13,033 | 8,650
| C | n/a | 21,892 | 21,892
| WYK | n/a | 2,363 | 2,363
| SEO | n/a | 2,934 | 2,934
| Total | 49,073 | 40,222 | 35,839
Pacific ocean perch ⁷ | W | n/a | 2,461 | 2,461
| C | n/a | 29,138 | 29,138
| WYK | n/a | 1,333 | 1,333
| W/C/WYK | 39,229 | 32,932 | 32,932
| SEO | 3,888 | 3,264 | 3,264
| Total | 43,117 | 36,196 | 36,196
Northern rockfish ⁸ | W | n/a | 2,497 | 2,497
| C | n/a | 2,244 | 2,244
| E | n/a |  |
| Total | 5,661 | 4,741 | 4,741
Shortraker rockfish ⁹ | W | n/a | 51 | 51
| C | n/a | 280 | 280
| E | n/a | 374 | 374
| Total | 940 | 705 | 705
Dusky rockfish ¹⁰ | W | n/a | 141 | 141
| C | n/a | 7,264 | 7,264
| WYK | n/a | 85 | 85
| SEO | n/a | 30 | 30
| Total | 9,154 | 7,520 | 7,520
Rougheye and blackspotted rockfish ¹¹ | W | n/a | 180 | 180
| C | n/a | 231 | 231
| E | n/a | 361 | 361
| Total | 927 | 772 | 772
Demersal shelf rockfish ¹² | SEO | 376 | 283 | 283
Thornyhead rockfish ¹³ | W | n/a | 314 | 314
| C | n/a | 693 | 693
| E | n/a | 621 | 621
| Total | 2,170 | 1,628 | 1,628
Other rockfish 14 15 | W/C combined | n/a | 940 | 940
| WYK | n/a | 370 | 370
| SEO | n/a | 2,744 | 300
| Total | 5,320 | 4,054 | 1,610
Atka mackerel | GW | 6,200 | 4,700 | 3,000
Big skates ¹⁶ | W | n/a | 591 | 591
| C | n/a | 1,482 | 1,482
| E | n/a | 794 | 794
| Total | 3,822 | 2,867 | 2,867
Longnose skates ¹⁷ | W | n/a | 151 | 151
| C | n/a | 2,044 | 2,044
| E | n/a | 517 | 517
| Total | 3,616 | 2,712 | 2,712
Other skates ¹⁸ | GW | 1,311 | 984 | 984
Sharks | GW | 6,521 | 4,891 | 4,891
Octopuses | GW | 1,307 | 980 | 980
Total |  | 658,311 | 550,224 | 476,537
¹ Regulatory areas and districts are defined at § 679.2. (W=Western Gulf of Alaska; C=Central Gulf of Alaska; E=Eastern Gulf of Alaska; WYK=West Yakutat District; SEO=Southeast Outside District; GW=Gulfwide).
² The total for the W/C/WYK Regulatory Areas pollock ABC is 161,080 mt. After deducting 2.5 percent (4,027 mt) of that ABC for the State's pollock GHL fishery, the remaining pollock ABC of 157,053 mt (for the W/C/WYK Regulatory Areas) is apportioned among four statistical areas (Areas 610, 620, 630, and 640). These apportionments are considered subarea ACLs, rather than ABCs, for specification and reapportionment purposes. The ACLs in Areas 610, 620, and 630 are further divided by season, as detailed in table 2 (proposed 2024 and 2025 seasonal biomass distribution of pollock in the Western and Central Regulatory Areas, area apportionments, and seasonal allowances). In the West Yakutat (Area 640) and Southeast Outside (Area 650) Districts of the Eastern Regulatory Area, pollock is not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. The Pacific cod TAC in the Eastern Regulatory Area of the GOA is allocated 90 percent to vessels harvesting Pacific cod for processing by the inshore component and 10 percent to vessels harvesting Pacific cod for processing by the offshore component. Table 4 lists the proposed 2024 and 2025 Pacific cod seasonal apportionments and sector allocations.
⁴ The sablefish OFL and ABC are set Alaska-wide (48,561 mt and 41,539 mt, respectively) and the GOA sablefish TAC is 21,095 mt. Tables 5 and 6 list the proposed 2024 and 2025 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinous. For management purposes, the one mt apportionment of ABC to the WYK District of the Eastern Regulatory Area has been included in the other rockfish species group.
⁹ “Shortraker rockfish” means Sebastes borealis.
¹⁰ “Dusky rockfish” means Sebastes variabilis.
¹¹ “Rougheye and blackspotted rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus spp.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail). In the Eastern GOA only, other rockfish also includes northern rockfish (S. polyspinous).
¹⁵ Other rockfish in the Western and Central Regulatory Areas and in the West Yakutat District of the Eastern Regulatory Area means all rockfish species included in the other rockfish and demersal shelf rockfish categories. The other rockfish species group in the SEO District only includes other rockfish.
¹⁶ “Big skates” means Beringraja binoculata.
¹⁷ “Longnose skates” means Raja rhina.
¹⁸ “Other skates” means Bathyraja spp.

Proposed Apportionment of Reserves

Section 679.20(b)(2) requires NMFS to set aside 20 percent of each TAC for pollock, Pacific cod, flatfish, sharks, and octopuses in reserve for possible apportionment at a later date during the fishing year. Section 679.20(b)(3) authorizes NMFS to reapportion all or part of these reserves. In 2023, NMFS reapportioned all of the reserves in the final harvest specifications. For 2024 and 2025, NMFS proposes reapportionment of each of the reserves for pollock, Pacific cod, flatfish, sharks, and octopuses back into the original TAC from which the reserve was derived. NMFS expects, based on recent harvest patterns, that such reserves will not be necessary and that the entire TAC for each of these species will be caught or are needed to promote efficient fisheries. The TACs in table 1 reflect this proposed reapportionment of reserve amounts to the original TAC for these species and species groups, i.e., each proposed TAC for the above-mentioned species or species groups contains the full TAC recommended by the Council.

Proposed Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into two seasonal allowances of 50 percent. As established by § 679.23(d)(2), the A and B season allowances are available from January 20 through May 31 and September 1 through November 1, respectively.

The GOA pollock stock assessment continues to use a four-season methodology to determine pollock distribution in the Western and Central Regulatory Areas of the GOA to maintain continuity in the historical pollock apportionment time-series. Pollock TACs in the Western and Central Regulatory Areas of the GOA are apportioned among Statistical Areas 610, 620, and 630 in proportion to the distribution of pollock biomass determined by the most recent NMFS surveys, pursuant to § 679.20(a)(5)(iv)(A). The pollock chapter of the 2022 SAFE report (see ADDRESSES) contains a comprehensive description of the apportionment and reasons for the minor changes from past apportionments. For purposes of specifying pollock between two seasons for the Western and Central Regulatory Areas of the GOA, NMFS has summed the A and B season apportionments and the C and D season apportionments as calculated in the 2022 GOA pollock assessment. This yields the seasonal amounts specified for the A season and the B season, respectively.

Within any fishing year, the amount by which a seasonal allowance is underharvested or overharvested may be added to, or subtracted from, subsequent seasonal allowances in a manner to be determined by the Regional Administrator (§ 679.20(a)(5)(iv)(B)). The rollover amount is limited to 20 percent of the subsequent seasonal TAC apportionment for the statistical area. Any unharvested pollock above the 20-percent limit could be further distributed to the subsequent season in the other statistical areas, in proportion to the estimated biomass of the subsequent season and in an amount no more than 20 percent of the seasonal TAC apportionment in those statistical areas (§ 679.20(a)(5)(iv)(B)). The proposed 2024 and 2025 pollock TACs in the WYK District of 8,136 mt and the SEO District of 11,363 mt are not allocated by season.

Table 2 lists the proposed 2024 and 2025 area apportionments and seasonal allowances of pollock in the Western and Central Regulatory Areas. The amounts of pollock for processing by the inshore and offshore components are not shown. Section 679.20(a)(6)(i) requires allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is the amount that will be taken as incidental catch during directed fishing for groundfish species other than pollock, up to the maximum retainable amounts allowed by § 679.20(e) and (f). At this time, these ICAs of pollock are unknown and will be determined during the fishing year during the course of fishing activities by the offshore component.

Table 2—Proposed 2024 and 2025 Distribution of Pollock in the Central and Western Regulatory Areas of the Gulf of Alaska; Area Apportionments; and Seasonal Allowances of Annual TAC ¹
[Values are rounded to the nearest metric ton]
Season ² | Shumigan (Area 610) | Chirikof (Area 620) | Kodiak (Area 630) | Total ³
A (January 20-May 31) | 1,823 | 62,771 | 9,864 | 74,459
B (September 1-November 1) | 27,333 | 20,511 | 26,614 | 74,459
Annual Total | 29,156 | 83,283 | 36,478 | 148,917
¹ Area apportionments and seasonal allowances may not total precisely due to rounding.
² As established by § 679.23(d)(2), the A and B season allowances are available from January 20 through May 31 and September 1 through November 1, respectively. The amounts of pollock for processing by the inshore and offshore components are not shown in this table.
³ The West Yakutat and Southeast Outside District pollock TACs are not allocated by season and are not included in the total pollock TACs shown in this table.

Proposed Annual and Seasonal Apportionments of Pacific Cod TAC

Pursuant to § 679.20(a)(12)(i), NMFS proposes allocations for the 2024 and 2025 Pacific cod TACs in the Western and Central Regulatory Areas of the GOA among gear and operational sectors. NMFS also proposes seasonal apportionments of the Pacific cod TACs in the Western and Central Regulatory Areas. A portion of the annual TAC is apportioned to the A season for hook-and-line, pot, and jig gear from January 1 through June 10, and for trawl gear from January 20 through June 10. The remainder of the annual TAC is apportioned to the B season for jig gear from June 10 through December 31, for hook-and-line and pot gear from September 1 through December 31, and for trawl gear from September 1 through November 1 (§§ 679.23(d)(3) and 679.20(a)(12)). NMFS also proposes allocating the 2024 and 2025 Pacific cod TACs annually between the inshore (90 percent) and offshore (10 percent) components in the Eastern Regulatory Area of the GOA (§ 679.20(a)(6)(ii)).

In the Western GOA, the Pacific cod TAC is apportioned seasonally first to vessels using jig gear, and then among CVs using hook-and-line gear, catcher/processors (CP) using hook-and-line gear, CVs using trawl gear, CPs using trawl gear, and vessels using pot gear (§ 679.20(a)(12)(i)(A)). In the Central GOA, the Pacific cod TAC is apportioned seasonally first to vessels using jig gear, and then among CVs less than 50 feet (15.2 meters (m)) in length overall using hook-and-line gear, CVs equal to or greater than 50 feet (15.2 m) in length overall using hook-and-line gear, CPs using hook-and-line gear, CVs using trawl gear, CPs using trawl gear, and vessels using pot gear (§ 679.20(a)(12)(i)(B)). For 2024 and 2025, NMFS proposes apportioning the jig sector allocations for the Western and Central GOA between the A season (60 percent) and the B season (40 percent) (§ 679.20(a)(12)(i)). Excluding seasonal apportionments to the jig gear sector, NMFS proposes apportioning the remainder of the annual Pacific cod TACs as follows: the seasonal apportionments of the annual TAC in the Western GOA are 63.84 percent to the A season and 36.16 percent to the B season, and in the Central GOA are 64.16 percent to the A season and 35.84 percent to the B season.

Under § 679.20(a)(12)(ii), any overage or underage of the Pacific cod allowance from the A season may be subtracted from, or added to, the subsequent B season allowance. In addition, any portion of the hook-and-line, trawl, pot, or jig sector allocations that is determined by NMFS as likely to go unharvested by a sector may be reallocated to other sectors for harvest during the remainder of the fishing year.

Pursuant to § 679.20(a)(12)(i)(A) and (B), a portion of the annual Pacific cod TACs in the Western and Central GOA will be allocated to vessels with a Federal fisheries permit that use jig gear before the TACs are apportioned among other non-jig sectors. In accordance with the FMP, the annual jig sector allocations may increase to up to 6 percent of the annual Western and Central GOA Pacific cod TACs, depending on the annual performance of the jig sector (see table 1 of Amendment 83 to the FMP for a detailed discussion of the jig sector allocation process (76 FR 74670, December 1, 2011)). Jig sector allocation increases are established for a minimum of 2 years.

NMFS has evaluated the historical harvest performance of the jig sector in the Western and Central GOA, and is proposing the 2024 and 2025 Pacific cod apportionments to this sector based on its historical harvest performance through 2022. For 2024 and 2025, NMFS proposes that the jig sector receive 2.5 percent of the annual Pacific cod TAC in the Western GOA. The 2024 and 2025 allocations consist of a base allocation of 1.5 percent of the Western GOA Pacific cod TAC and a harvest performance increase of 1.0 percent. For 2024 and 2025, NMFS also proposes that the jig sector receive 1.0 percent of the annual Pacific cod TAC in the Central GOA. The 2024 and 2025 allocations consist of a base allocation of 1.0 percent and no additional performance increases. The 2014 through 2023 Pacific cod jig allocations, catch, and percent allocation changes are listed in table 3 (and, as explained below, NMFS will update the 2023 summary once the fishing year is complete).

Table 3—Summary of Western GOA and Central GOA Pacific Cod Catch by Jig Gear in 2014 Through 2023, and Corresponding Percent Allocation Changes
Area | Year | Initial percent of TAC | Initial TAC allocation | Catch (mt) | Percent of initial allocation | >90% of initial allocation? | Change to percent allocation
Western GOA | 2014 | 2.5 | 573 | 785 | 137 | Y | Increase 1%.
| 2015 | 3.5 | 948 | 55 | 6 | N | None.
| 2016 | 3.5 | 992 | 52 | 5 | N | Decrease 1%.
| 2017 | 2.5 | 635 | 49 | 8 | N | Decrease 1%.
| 2018 | 1.5 | 125 | 121 | 97 | Y | Increase 1%.
| 2019 | 2.5 | 134 | 134 | 100 | Y | Increase 1%.
| 2020 | ¹ n/a
| 2021 | 3.5 | 195 | 26 | 13 | N | None.
| 2022 | 3.5 | 243 | 2 | 1 | N | Decrease 1%.
| 2023 | 2.5 | 131 | 131 | 101 | Y | Increase 1%.
Central GOA | 2014 | 2.0 | 797 | 262 | 33 | N | Decrease 1%.
| 2015 | 1.0 | 460 | 355 | 77 | N | None.
| 2016 | 1.0 | 370 | 267 | 72 | N | None.
| 2017 | 1.0 | 331 | 18 | 6 | N | None.
| 2018 | 1.0 | 61 | 0 | 0 | N | None.
| 2019 | 1.0 | 58 | 30 | 52 | N | None.
| 2020 | ¹ n/a
| 2021 | 1.0 | 102 | 26 | 26 | N | None.
| 2022 | 1.0 | 113 | 3 | 3 | N | None.
| 2023 | 1.0 | 111 | 246 | 222 | Y | Increase 1%.
¹ NMFS did not evaluate the 2020 performance of the jig sectors in the Western and Central GOA because NMFS prohibited directed fishing for all Pacific cod sectors in 2020 (84 FR 70438, December 23, 2019).

NMFS will re-evaluate the annual 2023 harvest performance of the jig sector in the Western and Central GOA when the 2023 fishing year is complete to determine whether to change the jig sector allocations proposed by this action in conjunction with the final 2024 and 2025 harvest specifications. The current catch through October 2023 by the Western and Central GOA jig sectors indicates that the Pacific cod allocation percentage to these sectors would each increase by 1 percent. Table 4 lists the seasonal apportionments and allocations of the proposed 2024 and 2025 Pacific cod TACs.

Table 4—Proposed 2024 and 2025 Seasonal Apportionments and Allocations of Pacific Cod TAC Amounts in the GOA; Allocations to the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 120 | N/A | 72 | N/A | 48
Hook-and-line CV | 66 | 0.7 | 33 | 0.70 | 33
Hook-and-line CP | 929 | 10.9 | 511 | 8.90 | 417
Trawl CV | 1,801 | 31.54 | 1,479 | 6.86 | 322
Trawl CP | 113 | 0.9 | 42 | 1.50 | 70
Pot CV and Pot CP | 1,783 | 19.80 | 929 | 18.20 | 854
Total | 4,811 | 63.84 | 3,067 | 36.16 | 1,744
Central GOA:
Jig (1.0% of TAC) | 102 | N/A | 61 | N/A | 41
Hook-and-line <50 CV | 1,481 | 9.32 | 944 | 5.29 | 536
Hook-and-line ≥50 CV | 680 | 5.61 | 569 | 1.10 | 111
Hook-and-line CP | 518 | 4.11 | 416 | 0.9975 | 101
Trawl CV ¹ | 4,216 | 25.29 | 2,564 | 16.29 | 1,652
Trawl CP | 426 | 2.00 | 203 | 2.19 | 222
Pot CV and Pot CP | 2,819 | 17.83 | 1,808 | 9.98 | 1,011
Total | 10,241 | 64.16 | 6,566 | 35.84 | 3,675
Eastern GOA |  | Inshore (90% of annual TAC) |  | Offshore (10% of annual TAC)
| 1,616 | 1,455 |  | 162
¹ Trawl catcher vessels participating in Rockfish Program cooperatives receive 3.81 percent, or 390 mt, of the annual Central GOA Pacific cod TAC (see Table 28c to 50 CFR part 679). This apportionment is deducted from the Trawl CV B season allowance (see Table 9: Proposed 2024 and 2025 Apportionments of Rockfish Secondary Species in the Central GOA and Table 28c to 50 CFR part 679).

Proposed Allocations of the Sablefish TAC Amounts to Vessels Using Fixed Gear and Trawl Gear

Section 679.20(a)(4)(i) and (ii) requires allocations of sablefish TACs for each of the regulatory areas and districts to fixed and trawl gear. In the Western and Central Regulatory Areas, 80 percent of each TAC is allocated to fixed gear, and 20 percent of each TAC is allocated to trawl gear. In the Eastern Regulatory Area, 95 percent of the TAC is allocated to fixed gear, and 5 percent is allocated to trawl gear. The trawl gear allocation in the Eastern Regulatory Area may be used only to support incidental catch of sablefish while directed fishing for other target species using trawl gear (§ 679.20(a)(4)(i)).

In recognition of the prohibition against trawl gear in the SEO District of the Eastern Regulatory Area, the Council recommended, and NMFS proposes, specifying for incidental catch the allocation of 5 percent of the Eastern Regulatory Area sablefish (WYK and SEO Districts combined) TAC to trawl gear in the WYK District of the Eastern Regulatory Area. The remainder of the WYK District sablefish TAC is allocated to vessels using fixed gear. This proposed action allocates 100 percent of the sablefish TAC in the SEO District to vessels using fixed gear. This results in proposed 2024 allocations of 383 mt to trawl gear and 2,287 mt to fixed gear in the WYK District, and a proposed 2024 allocation of 4,981 mt to fixed gear in the SEO District. table 5 lists the allocations of the proposed 2024 sablefish TACs to fixed and trawl gear. Table 6 lists the allocations of the proposed 2025 sablefish TACs to trawl gear.

The Council recommended that the trawl sablefish TAC be established for 2 years so that retention of incidental catch of sablefish by trawl gear could commence in January in the second year of the groundfish harvest specifications. Tables 5 and 6 list the proposed 2024 and 2025 trawl allocations, respectively.

The Council also recommended that the fixed gear sablefish TAC be established annually to ensure that the sablefish individual fishing quota (IFQ) fishery is conducted concurrently with the halibut IFQ fishery and is based on the most recent survey information. Since there is an annual assessment for sablefish and since the final harvest specifications are expected to be published before the IFQ season begins (typically, in early March), the Council recommended that the fixed gear sablefish TAC be set annually, rather than for 2 years. Accordingly, table 5 lists the proposed 2024 fixed gear allocations, and the 2025 fixed gear allocations will be specified in the 2025 and 2026 harvest specifications.

With the exception of the trawl allocations that are provided to the Rockfish Program (see Table 28c to 50 CFR part 679), directed fishing for sablefish with trawl gear is closed during the fishing year. Also, fishing for groundfish with trawl gear is prohibited prior to January 20 (§ 679.23(c)). Therefore, it is not likely that the sablefish allocation to trawl gear would be reached before the effective date of the final 2024 and 2025 harvest specifications.

Table 5—Proposed 2024 Sablefish TAC Amounts in the Gulf of Alaska and Allocations to Fixed and Trawl Gear
[Values are rounded to the nearest metric ton]
Area/district | TAC | Fixed gear allocation | Trawl allocation
Western | 4,626 | 3,701 | 925
Central ¹ | 8,819 | 7,055 | 1,764
West Yakutat ² | 2,669 | 2,287 | 383
Southeast Outside | 4,981 | 4,981 | 0
Total | 21,095 | 18,024 | 3,072
¹ The proposed trawl allocation of sablefish to the Central Regulatory Area is further apportioned to the Rockfish Program cooperatives (907 mt). See Table 9: Proposed 2024 and 2025 Apportionments of Rockfish Secondary Species in the Central GOA. This results in 856 mt being available for the non-Rockfish Program trawl fisheries.
² The proposed trawl allocation is based on allocating 5 percent of the Eastern Regulatory Area (West Yakutat and Southeast Outside Districts combined) sablefish TAC as incidental catch to trawl gear in the West Yakutat District.

Table 6—Proposed 2025 Sablefish TAC Amounts in the Gulf of Alaska and Allocation to Trawl Gear ¹
[Values are rounded to the nearest metric ton]
Area/district | TAC | Fixed gear allocation | Trawl allocation
Western | 4,626 | n/a | 925
Central ² | 8,819 | n/a | 1,764
West Yakutat ³ | 2,669 | n/a | 383
Southeast Outside | 4,981 | n/a | 0
Total | 21,095 | n/a | 3,072
¹ The Council recommended that the proposed 2025 harvest specifications for the fixed gear sablefish Individual Fishing Quota fisheries not be specified in the 2024 and 2025 harvest specifications.
² The proposed trawl allocation of sablefish to the Central Regulatory Area is further apportioned to the Rockfish Program cooperatives (907 mt). See Table 9: Proposed 2024 and 2025 Apportionments of Rockfish Secondary Species in the Central GOA. This results in 856 mt being available for the non-Rockfish Program trawl fisheries.
³ The proposed trawl allocation is based on allocating 5 percent of the Eastern Regulatory Area (West Yakutat and Southeast Outside Districts combined) sablefish TAC as incidental catch to trawl gear in the West Yakutat District.

Proposed Allocations, Apportionments, and Sideboard Limitations for the Rockfish Program

These proposed 2024 and 2025 harvest specifications for the GOA include the fishery cooperative allocations and sideboard limitations established by the Rockfish Program. Program participants are primarily trawl CVs and trawl CPs, with limited participation by vessels using longline gear. The Rockfish Program assigns quota share and cooperative quota to trawl participants for primary species (Pacific ocean perch, northern rockfish, and dusky rockfish) and secondary species (Pacific cod, rougheye rockfish, sablefish, shortraker rockfish, and thornyhead rockfish), allows a participant holding a LLP license with rockfish quota share to form a rockfish cooperative with other persons, and allows holders of CP LLP licenses to opt out of the fishery. The Rockfish Program also has an entry level fishery for rockfish primary species for vessels using longline gear. Longline gear includes hook-and-line, jig, troll, and handline gear.

Under the Rockfish Program, rockfish primary species in the Central GOA are allocated to participants after deducting for incidental catch needs in other directed fisheries (§ 679.81(a)(2)). Participants in the Rockfish Program also receive a portion of the Central GOA TAC of specific secondary species. In addition to groundfish species, the Rockfish Program allocates a portion of the halibut PSC limit (191 mt) from the third season deep-water species fishery allowance for the GOA trawl fisheries to Rockfish Program participants (§ 679.81(d) and Table 28d to 50 CFR part 679). The Rockfish Program also establishes sideboard limits to restrict the ability of harvesters operating under the Rockfish Program to increase their participation in other, non-Rockfish Program fisheries. These restrictions and halibut PSC limits are discussed in the Rockfish Program Groundfish Sideboard and Halibut PSC Limitations section of this rule.

Section 679.81(a)(2)(ii) and Table 28e to 50 CFR part 679 require allocations of 5 mt of Pacific ocean perch, 5 mt of northern rockfish, and 50 mt of dusky rockfish to the entry level longline fishery in 2024 and 2025. The allocations of primary species to the entry level longline fishery may increase incrementally each year if the catch exceeds 90 percent of the allocation of a species. The incremental increase in the allocations would continue each year until reaching the maximum percentage of the TAC for that species. In 2023, the catch for all three primary species did not exceed 90 percent of any allocated rockfish species. Therefore, NMFS is not proposing any increases to the entry level longline fishery 2024 and 2025 allocations in the Central GOA. The remainder of the TACs for the rockfish primary species, after subtracting the ICAs, would be allocated to the CV and CP cooperatives (§ 679.81(a)(2)(iii)). Table 7 lists the allocations of the proposed 2024 and 2025 TACs for each rockfish primary species to the entry level longline fishery, the potential incremental increases for future years, and the maximum percentage allocations of the TACs of the rockfish primary species to the entry level longline fishery.

Table 7—Proposed 2024 and 2025 Allocations of Rockfish Primary Species to the Entry Level Longline Fishery in the Central Gulf of Alaska
Rockfish primary species | Proposed 2024 and 2025 allocations (metric tons) | Incremental increase in 2025 if >90 percent of 2024 allocation is harvested (metric tons) | Up to maximum percent of each TAC of
Pacific ocean perch | 5 | 5 | 1
Northern rockfish | 5 | 5 | 2
Dusky rockfish | 50 | 20 | 5

Section 679.81 requires allocations of rockfish primary species among various sectors of the Rockfish Program. Table 8 lists the proposed 2024 and 2025 allocations of rockfish primary species in the Central GOA to the entry level longline fishery and rockfish CV and CP cooperatives in the Rockfish Program. NMFS also proposes setting aside ICAs for other directed fisheries in the Central GOA of 3,000 mt of Pacific ocean perch, 300 mt of northern rockfish, and 250 mt of dusky rockfish. These amounts are based on recent average incidental catches in the Central GOA by other groundfish fisheries.

Allocations among vessels belonging to CV or CP cooperatives are not included in these proposed harvest specifications. Rockfish Program applications for CV cooperatives and CP cooperatives are not due to NMFS until March 1 of each calendar year; therefore, NMFS cannot calculate 2024 and 2025 allocations in conjunction with these proposed harvest specifications. NMFS will announce the 2024 allocations after March 1.

Table 8—Proposed 2024 and 2025 Allocations of Rockfish Primary Species in the Central Gulf of Alaska to the Entry Level Longline Fishery and Rockfish Cooperatives in the Rockfish Program
[Values are rounded to the nearest metric ton]
Rockfish primary species | Central GOA TAC | Incidental catch allowance (ICA) | TAC minus ICA | Allocation to the entry level longline ¹ fishery | Allocation to the rockfish cooperatives ²
Pacific ocean perch | 29,138 | 3,000 | 26,138 | 5 | 26,133
Northern rockfish | 2,244 | 300 | 1,944 | 5 | 1,939
Dusky rockfish | 7,264 | 250 | 7,014 | 50 | 6,964
Total | 38,646 | 3,550 | 35,096 | 60 | 35,036
¹ Longline gear includes hook-and-line, jig, troll, and handline gear (50 CFR 679.2).
² Rockfish cooperatives include vessels in CV and CP cooperatives (50 CFR 679.81).

Section 679.81(c) and Table 28c to 50 CFR part 679 requires allocations of rockfish secondary species to CV and CP cooperatives in the Central GOA. CV cooperatives receive allocations of Pacific cod, sablefish from the trawl gear allocation, and thornyhead rockfish. CP cooperatives receive allocations of sablefish from the trawl gear allocation, rougheye and blackspotted rockfish, shortraker rockfish, and thornyhead rockfish. Table 9 lists the apportionments of the proposed 2024 and 2025 TACs of rockfish secondary species in the Central GOA to CV and CP cooperatives.

Table 9—Proposed 2024 and 2025 Apportionments of Rockfish Secondary Species in the Central GOA to Catcher Vessel and Catcher/Processor Cooperatives
[Values are in metric tons]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 10,241 | 3.81 | 390 | 0.00 |
Sablefish | 8,819 | 6.78 | 598 | 3.51 | 310
Shortraker rockfish | 280 | 0.00 | 0 | 40.00 | 112
Rougheye and blackspotted rockfish | 231 | 0.00 | 0 | 58.87 | 136
Thornyhead rockfish | 693 | 7.84 | 54 | 26.50 | 184

Halibut PSC Limits

Section 679.21(d) establishes annual halibut PSC limit apportionments to trawl and hook-and-line gear, and authorizes the establishment of apportionments for pot gear. In October 2023, the Council recommended, and NMFS proposes, halibut PSC limits of 1,705 mt for trawl gear, 257 mt for hook-and-line gear, and 9 mt for the demersal shelf rockfish (DSR) fishery in the SEO District for both 2024 and 2025.

The DSR fishery in the SEO District is defined at § 679.21(d)(2)(ii)(A). This fishery is apportioned 9 mt of the halibut PSC limit in recognition of its small-scale harvests of groundfish (§ 679.21(d)(2)(i)(A)). The separate halibut PSC limit for the DSR fishery is intended to prevent that fishery from being impacted from the halibut PSC incurred by other GOA fisheries. NMFS estimates low halibut bycatch in the DSR fishery because (1) the duration of the DSR fisheries and the gear soak times are short; (2) the DSR fishery occurs in the winter when there is less overlap in the distribution of DSR and halibut; and (3) the directed commercial DSR fishery has a low DSR TAC. The Alaska Department of Fish and Game sets the commercial GHL for the DSR fishery after deducting (1) estimates of DSR incidental catch in all fisheries (including halibut and subsistence); and (2) the allocation to the DSR sport fish fishery. In 2023, the commercial fishery for DSR was closed due to concerns about declining DSR biomass.

The FMP authorizes the Council to exempt specific gear from the halibut PSC limits. NMFS, after consultation with the Council, proposes to exempt pot gear, jig gear, and the sablefish IFQ hook-and-line gear fishery categories from the non-trawl halibut PSC limit for 2024 and 2025. The Council recommended, and NMFS is proposing, these exemptions because (1) pot gear fisheries have low annual halibut bycatch mortality; (2) IFQ program regulations prohibit discard of halibut if any halibut IFQ permit holder on board a CV holds unused halibut IFQ for that vessel category and the IFQ regulatory area in which the vessel is operating (§ 679.7(f)(11)); (3) some sablefish IFQ permit holders hold halibut IFQ permits and are therefore required to retain the halibut they catch while fishing sablefish IFQ; and (4) NMFS estimates negligible halibut mortality for the jig gear fisheries given the small amount of groundfish harvested by jig gear, the selective nature of jig gear, and the high survival rates of halibut caught and released with jig gear.

The best available information on estimated halibut bycatch consists of data collected by fisheries observers during 2023. The calculated halibut bycatch mortality through November 8, 2023 is 292 mt for trawl gear and 23 mt for hook-and-line gear, for a total halibut mortality of 271 mt. This halibut mortality was calculated using groundfish and IFQ halibut catch data from the NMFS Alaska Region's catch accounting system. This accounting system contains historical and recent catch information compiled from each Alaska groundfish and IFQ halibut fishery.

Section 679.21(d)(4)(i) and (ii) authorizes NMFS to seasonally apportion the halibut PSC limits after consultation with the Council. The FMP and regulations require that the Council and NMFS consider the following information in seasonally apportioning halibut PSC limits: (1) seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. Based on public comment, information presented in the 2023 SAFE report, NMFS catch data, State catch data, and International Pacific Halibut Commission (IPHC) stock assessment and mortality data, the Council may recommend, or NMFS may make changes, to the seasonal, gear-type, or fishery category apportionments of halibut PSC limits for the final 2024 and 2025 harvest specifications pursuant to § 679.21(d)(1) and (d)(4).

The final 2023 and 2024 harvest specifications (88 FR 13238, March 2, 2023) list the Council and NMFS's seasonal apportionments based on these FMP and regulatory considerations with respect to halibut PSC limits. The Council and NMFS's seasonal apportionments for these proposed 2024 and 2025 harvest specifications are unchanged from the final 2023 and 2024 harvest specifications. Table 10 lists the proposed 2024 and 2025 Pacific halibut PSC limits, allowances, and apportionments. The halibut PSC limits in tables 10, 11, and 12 reflect the halibut PSC limits set forth at § 679.21(d)(2) and (3). Section 679.21(d)(4)(iii) and (iv) specifies that any underages or overages of a seasonal apportionment of a halibut PSC limit will be added to or deducted from the next respective seasonal apportionment within the fishing year.

Table 10—Proposed 2024 and 2025 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 30.5 | 520 | January 1-June 10 | 86 | 220 | January 1-December 31 | 9
April 1-July 1 | 20 | 341 | June 10-September 1 | 2 | 5
July 1-August 1 | 27 | 460 | September 1-December 31 | 12 | 31
August 1-October 1 | 7.5 | 128
October 1-December 31 | 15 | 256
Total |  | 1,705 |  |  | 256 |  | 9
¹ The Pacific halibut prohibited species catch (PSC) limit for hook-and-line gear is allocated to the demersal shelf rockfish (DSR) fishery in the SEO District and to hook-and-line fisheries other than the DSR fishery. The Council recommended, and NMFS proposes, that the hook-and-line sablefish IFQ fishery, and the pot and jig gear groundfish fisheries, be exempt from halibut PSC limits.

Section 679.21(d)(3)(ii) authorizes further apportionment of the trawl halibut PSC limit as bycatch allowances to trawl fishery categories listed in § 679.21(d)(3)(iii). The annual apportionments are based on each category's share of the anticipated halibut bycatch mortality during a fishing year and optimization of the total amount of groundfish harvest under the halibut PSC limit. The fishery categories for the trawl halibut PSC limits are: (1) a deep-water species fishery, composed of sablefish, rockfish, deep-water flatfish, rex sole, and arrowtooth flounder; and (2) a shallow-water species fishery, composed of pollock, Pacific cod, shallow-water flatfish, flathead sole, Atka mackerel, skates, and “other species” (sharks and octopuses) (§ 679.21(d)(3)(iii)). Halibut mortality incurred while directed fishing for skates with trawl gear accrues towards the shallow-water species fishery halibut PSC limit (69 FR 26320, May 12, 2004).

NMFS will combine available trawl halibut PSC limit apportionments in part of the second season deep-water and shallow-water species fisheries for use in either fishery from May 15 through June 30 (§ 679.21(d)(4)(iii)(D)). This is intended to maintain groundfish harvest while minimizing halibut bycatch by these sectors to the extent practicable. This provides the trawl gear deep-water and shallow-water species fisheries additional flexibility and the incentive to participate in fisheries at times of the year that may have lower halibut PSC rates relative to other times of the year.

Table 11 lists the proposed 2024 and 2025 seasonal apportionments of trawl halibut PSC limits between the trawl gear deep-water and the shallow-water species fisheries.

Table 28d to 50 CFR part 679 specifies the amount of the trawl halibut PSC limit that is assigned to the CV and CP sectors that are participating in the Central GOA Rockfish Program. This includes 117 mt of halibut PSC limit to the CV sector and 74 mt of halibut PSC limit to the CP sector. These amounts are allocated from the trawl deep-water species fishery's halibut PSC third seasonal apportionment. After the combined CV and CP halibut PSC limit allocation of 191 mt to the Rockfish Program, 150 mt remains for the trawl deep-water species fishery's halibut PSC third seasonal apportionment.

Section 679.21(d)(4)(iii)(B) limits the amount of the halibut PSC limit allocated to Rockfish Program participants that could be re-apportioned to the general GOA trawl fisheries for the last seasonal apportionment during the current fishing year to no more than 55 percent of the unused annual halibut PSC limit apportioned to Rockfish Program participants. The remainder of the unused Rockfish Program halibut PSC limit is unavailable for use by any person for the remainder of the fishing year (§ 679.21(d)(4)(iii)(C)).

Table 11—Proposed 2024 and 2025 Apportionment of the Pacific Halibut PSC Limits Between the Trawl Gear Shallow-Water and Deep-Water Species Fishery Categories
[Values are in metric tons]
Season | Shallow-water | Deep-water ¹ | Total
January 20-April 1 | 385 | 135 | 520
April 1-July 1 | 85 | 256 | 341
July 1-August 1 | 120 | 340 | 460
August 1-October 1 | 53 | 75 | 128
Subtotal, January 20-October 1 | 643 | 806 | 1,449
October 1-December 31 ² |  |  | 256
Total |  |  | 1,705
¹ Vessels participating in cooperatives in the Central GOA Rockfish Program will receive 191 mt of the third season (July 1 through August 1) deep-water species fishery halibut PSC apportionment.
² There is no apportionment between trawl shallow-water and deep-water species fisheries during the fifth season (October 1 through December 31).

Section 679.21(d)(2)(i)(B) requires that the “other hook-and-line fishery” halibut PSC limit apportionment to vessels using hook-and-line gear must be apportioned between CVs and CPs in accordance with § 679.21(d)(2)(iii) in conjunction with these harvest specifications. A comprehensive description and example of the calculations necessary to apportion the “other hook-and-line fishery” halibut PSC limit between the hook-and-line CV and CP sectors were included in the proposed rule to implement Amendment 83 to the FMP (76 FR 44700, July 26, 2011) and are not repeated here.

Pursuant to § 679.21(d)(2)(iii), the hook-and-line halibut PSC limit for the “other hook-and-line fishery” is apportioned between the CV and CP sectors in proportion to the total Western and Central GOA Pacific cod allocations, which vary annually based on the proportion of the Pacific cod biomass between the Western, Central, and Eastern GOA. Pacific cod is apportioned among these three management areas based on the percentage of overall biomass per area, as calculated in the 2022 Pacific cod stock assessment. Updated information in the final 2022 SAFE report describes this distributional calculation, which allocates ABC among GOA regulatory areas on the basis of the three most recent stock surveys. For 2024 and 2025, the proposed distribution of the total GOA Pacific cod ABC is 30.3 percent to the Western GOA, 60.2 percent to the Central GOA, and 9.5 percent to the Eastern GOA. Therefore, the calculations made in accordance with § 679.21(d)(2)(iii) incorporate the most recent information on GOA Pacific cod distribution and allocations with respect to the proposed annual halibut PSC limits for the CV and CP hook-and-line sectors. Additionally, the annual halibut PSC limits for both the CV and CP sectors of the “other hook-and-line fishery” are proposed to be divided into three seasonal apportionments, using seasonal percentages of 86 percent, 2 percent, and 12 percent.

For 2024 and 2025, NMFS proposes annual halibut PSC limits of 150 mt and 107 mt to the hook-and-line CV and hook-and-line CP sectors, respectively. Table 12 lists the proposed 2024 and 2025 apportionments of halibut PSC limits between the hook-and-line CV and the hook-and-line CP sectors of the “other hook-and-line fishery.”

No later than November 1 of each year, NMFS will calculate the projected unused amount of halibut PSC limit by either of the CV or CP hook-and-line sectors of the “other hook-and-line fishery” for the remainder of the year. The projected unused amount of halibut PSC limit is made available to the other hook-and-line sector for the remainder of that fishing year (§ 679.21(d)(2)(iii)(C)), if NMFS determines that an additional amount of halibut PSC is necessary for that sector to continue its directed fishing operations.

Table 12—Proposed 2024 and 2025 Apportionments of the “Other Hook-and-Line Fishery” Annual Halibut PSC Allowance Between the Hook-and-Line Gear Catcher Vessel and Catcher/Processor Sectors
[Values are in metric tons]
“Other than DSR” allowance | Hook-and-line sector | Sector annual amount | Season | Seasonal percentage | Sector seasonal amount
257 | Catcher Vessel | 150 | January 1-June 10 | 86 | 129
|  |  | June 10-September 1 | 2 | 3
|  |  | September 1-December 31 | 12 | 18
| Catcher/Processor | 107 | January 1-June 10 | 86 | 92
|  |  | June 10-September 1 | 2 | 2
|  |  | September 1-December 31 | 12 | 13

Halibut Discard Mortality Rates

To monitor halibut bycatch mortality allowances and apportionments, the Regional Administrator uses observed halibut incidental catch rates, halibut discard mortality rates (DMR), and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual GOA stock assessment process. The DMR methodology and findings are included as an appendix to the annual GOA groundfish SAFE report.

In 2016, the DMR estimation methodology underwent revisions per the Council's directive. An interagency halibut working group (IPHC, Council, and NMFS staff) developed improved estimation methods that have undergone review by the Plan Team, the SSC, and the Council. A summary of the revised methodology is contained in the GOA proposed 2017 and 2018 harvest specifications (81 FR 87881, December 6, 2016), and the comprehensive discussion of the working group's statistical methodology is available from the Council (see ADDRESSES). The DMR working group's revised methodology is intended to improve estimation accuracy, transparency, and transferability for calculating DMRs. The working group will continue to consider improvements to the methodology used to calculate halibut mortality, including potential changes to the reference period (the period of data used for calculating the DMRs). Future DMRs may change based on additional years of observer sampling, which could provide more recent and accurate data and which could improve the accuracy of estimation and progress on methodology. The methodology will continue to ensure that NMFS is using DMRs that more accurately reflect halibut mortality, which will inform the different sectors of their estimated halibut mortality and allow specific sectors to respond with methods that could reduce mortality and, eventually, the DMR for that sector.

In October 2023, the Council recommended halibut DMRs reviewed by the Plan Team and SSC, which are derived from the revised methodology. The proposed 2024 and 2025 DMRs use an updated 2-year and 4-year reference period depending data availability. Consistent with the Council's intent, NMFS is proposing the DMRs recommended by the Plan Team and reviewed by the SSC for the proposed 2024 and 2025 DMRs. Comparing the proposed 2024 and 2025 DMRs to the final DMRs from the final 2023 and 2024 harvest specifications, the proposed DMR for Rockfish Program CVs using non-pelagic trawl gear increased to 56 percent from 55 percent, the proposed DMR for non-Rockfish Program CVs using non-pelagic trawl gear decreased to 69 percent from 74 percent, the proposed DMR for CPs using hook-and-line gear decreased to 11 percent from 13 percent, the proposed DMR for CVs using hook-and-line gear increased to 10 percent from 9 percent, and the proposed DMR for CPs and CVs using pot gear decreased to 26 percent from 27 percent. For pelagic trawl gear CVs and CPs, and non-pelagic trawl gear mothership and CPs, the DMRs remained the same. Table 13 lists the proposed 2024 and 2025 DMRs.

Table 13—Proposed 2024 and 2025 Halibut Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 56
| Catcher vessel | All others | 69
| Mothership and catcher/processor | All | 83
Hook-and-line | Catcher/processor | All | 11
| Catcher vessel | All | 10
Pot | Catcher vessel and catcher/processor | All | 26

Chinook Salmon Prohibited Species Catch Limits

Section 679.21(h)(2) establishes separate Chinook salmon PSC limits in the Western and Central regulatory areas of the GOA in the trawl pollock directed fishery. These limits require that NMFS close directed fishing for pollock in the Western and Central GOA if the applicable Chinook salmon PSC limit is reached (§ 679.21(h)(8)). The annual Chinook salmon PSC limits in the trawl pollock directed fishery of 6,684 salmon in the Western GOA and 18,316 salmon in the Central GOA are set in § 679.21(h)(2)(i) and (ii).

Section 679.21(h)(3) and (4) established an initial annual PSC limit of 7,500 Chinook salmon for the non-pollock groundfish trawl fisheries in the Western and Central GOA. This limit is apportioned among the three sectors that conduct directed fishing for groundfish species other than pollock: 3,600 Chinook salmon to trawl CPs; 1,200 Chinook salmon to trawl CVs participating in the Rockfish Program; and 2,700 Chinook salmon to trawl CVs not participating in the Rockfish Program (§ 679.21(h)(4)). NMFS will monitor the Chinook salmon PSC in the trawl non-pollock GOA groundfish fisheries and close an applicable sector if it reaches its Chinook salmon PSC limit.

The Chinook salmon PSC limit for two sectors, trawl CPs and trawl CVs not participating in the Rockfish Program, may be increased in subsequent years based on the performance of these two sectors and their ability to minimize their use of their respective Chinook salmon PSC limits. If either or both of these two sectors limit its use of Chinook salmon PSC to a certain threshold amount in 2023 (3,120 for trawl CPs and 2,340 for non-Rockfish Program trawl CVs), that sector will receive an incremental increase to its 2024 Chinook salmon PSC limit (4,080 for trawl CPs and 3,060 for non-Rockfish Program trawl CVs) (§ 679.21(h)(4)). NMFS will evaluate the annual Chinook salmon PSC by trawl CPs and non-Rockfish Program trawl CVs when the 2023 fishing year is complete to determine whether to increase the Chinook salmon PSC limits for these two sectors. Based on preliminary 2023 Chinook salmon PSC data, the trawl CP sector may receive an incremental increase of Chinook salmon PSC limit in 2024, and the non-Rockfish Program trawl CV sector may receive an incremental increase of Chinook salmon PSC limit in 2024. This evaluation will be completed in conjunction with the final 2024 and 2025 harvest specifications.

American Fisheries Act (AFA) CP and CV Groundfish Harvest and PSC Limits

Section 679.64 establishes groundfish harvesting and processing sideboard limits on AFA CPs and CVs in the GOA. These sideboard limits are necessary to protect the interests of fishermen and processors who do not directly benefit from the AFA from those fishermen and processors who receive exclusive harvesting and processing privileges under the AFA. Section 679.7(k)(1)(ii) prohibits listed AFA CPs and CPs designated on a listed AFA CP permit from harvesting any species of fish in the GOA. Additionally, § 679.7(k)(1)(iv) prohibits listed AFA CPs and CPs designated on a listed AFA CP permit from processing any pollock harvested in a directed pollock fishery in the GOA and any groundfish harvested in Statistical Area 630 of the GOA.

AFA CVs that are less than 125 feet (38.1 meters) length overall, have annual landings of pollock in the Bering Sea and Aleutian Islands of less than 5,100 mt, and have made at least 40 landings of GOA groundfish from 1995 through 1997 are exempt from GOA CV groundfish sideboard limits under § 679.64(b)(2)(ii). Sideboard limits for non-exempt AFA CVs in the GOA are based on their traditional harvest levels of TAC in groundfish fisheries covered by the FMP. Section 679.64(b)(3)(iv) establishes the CV groundfish sideboard limits in the GOA based on the aggregate retained catch by non-exempt AFA CVs of each sideboard species from 2009 through 2019 divided by the TAC for that species available to catcher vessels from 2009 through 2019. Under the PCTC Program, NMFS modified the calculation of the sideboard ratios for non-exempt AFA CVs, using the qualifying years of 2009 through 2019 (88 FR 53704, August 8, 2023). Previously, sideboard limits were based on the ratio of catch to the TAC during the years 1995 through 1997.

NMFS published a final rule (84 FR 2723, February 8, 2019) that implemented regulations to prohibit non-exempt AFA CVs from directed fishing for specific groundfish species or species groups subject to sideboard limits (§ 679.20(d)(1)(iv)(D) and Table 56 to 50 CFR part 679). Under the PCTC Program, NMFS also promulgated regulations to prohibit non-exempt AFA CVs from directed fishing for additional groundfish species or species groups subject to sideboard limits (88 FR 53704, August 8, 2023). All of these prohibitions are found in the revised Table 56 to 50 CFR part 679. Sideboard limits not subject to these final rules continue to be calculated and included in the GOA annual harvest specifications.

Table 14 lists the proposed 2024 and 2025 groundfish sideboard limits for non-exempt AFA CVs. NMFS will deduct all targeted or incidental catch of sideboard species made by non-exempt AFA CVs from the sideboard limits listed in table 14.

Table 14—Proposed 2024 and 2025 GOA Non-Exempt American Fisheries Act Catcher Vessel (CV) Groundfish Sideboard Limits
[Values are rounded to the nearest metric ton]
Species | Apportionments by season/gear | Area/component | Ratio of 2009-2019 non-exempt AFA CV retained catch to 2009-2019 TAC | Proposed 2024 and 2025 TACs ³ | Proposed 2024 and 2025 non-exempt AFA CV sideboard limit
Pollock | A Season: January 20-May 31 | Shumagin (610) | 0.057 | 1,823 | 104
|  | Chirikof (620) | 0.064 | 62,771 | 4,017
|  | Kodiak (630) | 0.091 | 9,864 | 898
| B Season: September 1-November 1 | Shumagin (610) | 0.057 | 27,333 | 1,558
|  | Chirikof (620) | 0.064 | 20,511 | 1,313
|  | Kodiak (630) | 0.091 | 26,614 | 2,422
| Annual | WYK (640) | 0.026 | 8,136 | 212
Pacific cod | A Season: ¹ January 1-June 10 | W | 0.009 | 3,067 | 28
|  | C | 0.011 | 6,562 | 72
| B Season: ² September 1-December 31 | W | 0.009 | 1,744 | 16
|  | C | 0.011 | 3,679 | 40
Flatfish, shallow-water | Annual | C | 0.011 | 27,737 | 305
Rex sole | Annual | C | 0.014 | 13,425 | 188
Arrowtooth flounder | Annual | C | 0.011 | 64,200 | 706
Flathead sole | Annual | C | 0.007 | 21,892 | 153
¹ The Pacific cod A season for trawl gear does not open until January 20.
² The Pacific cod B season for trawl gear closes November 1.
³ The Western and Central GOA and WYK District area apportionments of pollock are considered Annual Catch Limits.

Non-Exempt AFA Catcher Vessel Halibut PSC Limit

The non-exempt AFA catcher vessels and the associated LLP licenses PSC limit for halibut in the GOA will be an annual amount based on a static ratio of 0.072, which was derived from the aggregate retained groundfish catch by non-exempt AFA CVs in each PSC target category from 2009 through 2019 (§ 679.64(b)(4)(ii)). This change was implemented with the PCTC Program (88 FR 53704, August 8, 2023). Prior to the publication of these proposed harvest specifications, the halibut PSC sideboard limits for non-exempt AFA CVs in the GOA were based on the aggregate retained groundfish catch by non-exempt AFA CVs in each PSC target category from 1995 through 1997 divided by the retained catch of all vessels in that fishery from 1995 through 1997. Table 15 lists the proposed 2024 and 2025 non-exempt AFA CV halibut PSC sideboard limits for vessels using trawl gear in the GOA.

Table 15—Proposed 2024 and 2025 Non-Exempt American Fisheries Act Catcher Vessel (CV) Halibut PSC Sideboard Limits
Ratio (percent) | Annual trawl gear halibut PSC limit (mt) | Annual non-exempt AFA CV halibut PSC limit (mt)
0.072 | 1,705 | 123

Non-AFA Crab Vessel Groundfish Harvest Limitations

Section 680.22 establishes groundfish sideboard limits for vessels with a history of participation in the Bering Sea snow crab fishery to prevent these vessels from using the increased flexibility provided by the Crab Rationalization (CR) Program to expand their level of participation in the GOA groundfish fisheries. Sideboard harvest limits restrict these vessels' catch to their collective historical landings in each GOA groundfish fishery (except the fixed-gear sablefish fishery). Sideboard limits also apply to landings made using an LLP license derived from the history of a restricted vessel, even if that LLP license is used on another vessel.

The basis for these sideboard harvest limits is described in detail in the final rules implementing the major provisions of the CR Program, including Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), and Amendment 45 to the Crab FMP (80 FR 28539, May 19, 2015). Also, NMFS published a final rule (84 FR 2723, February 8, 2019) that implemented regulations to prohibit non-AFA crab vessels from directed fishing for all groundfish species or species groups subject to sideboard limits, except for Pacific cod apportioned to CVs using pot gear in the Western and Central Regulatory Areas (§ 680.22(e)(1)(iii)). Accordingly, the GOA annual harvest specifications include only the non-AFA crab vessel groundfish sideboard limits for Pacific cod apportioned to CVs using pot gear in the Western and Central Regulatory Areas.

Table 16 lists the proposed 2024 and 2025 groundfish sideboard limits for non-AFA crab vessels. All targeted or incidental catch of sideboard species made by non-AFA crab vessels or associated LLP licenses will be deducted from these sideboard limits.

Table 16—Proposed 2024 and 2025 GOA Non-American Fisheries Act Crab Vessel Groundfish Sideboard Limits
[Values are rounded to the nearest metric ton]
Species | Season | Area/gear | Ratio of 1996-2000 non-AFA crab vessel catch to 1996-2000 total harvest | Proposed 2024 and 2025 TACs | Proposed 2024 and 2025 non-AFA crab vessel sideboard limit
Pacific cod | A Season: January 1-June 10 | Western Pot CV | 0.0997 | 3,067 | 306
|  | Central Pot CV | 0.0474 | 6,566 | 311
| B Season: September 1-December 31 | Western Pot CV | 0.0997 | 1,744 | 174
|  | Central Pot CV | 0.0474 | 3,675 | 174

Rockfish Program Groundfish Sideboard and Halibut PSC Limitations

The Rockfish Program establishes three classes of sideboard provisions: CV groundfish sideboard restrictions, CP rockfish sideboard restrictions, and CP opt-out vessel sideboard restrictions (§ 679.82(c)(1)). These sideboards are intended to limit the ability of rockfish harvesters to expand into other fisheries.

CVs participating in the Rockfish Program may not participate in directed fishing for dusky rockfish, Pacific ocean perch, and northern rockfish in the Western GOA and West Yakutat District from July 1 through July 31. Also, CVs may not participate in directed fishing for arrowtooth flounder, deep-water flatfish, and rex sole in the GOA from July 1 through July 31 (§ 679.82(d)).

Prior to 2021, CPs participating in Rockfish Program cooperatives were restricted by rockfish sideboard limits in the Western GOA. A final rule that implemented Amendment 111 to the FMP (86 FR 11895, March 1, 2021) removed Western GOA rockfish sideboard limits for Rockfish Program CPs from regulation. That rule also revised and clarified the establishment of West Yakutat District rockfish sideboard ratios in regulation, rather than specifying the West Yakutat District rockfish sideboard ratios in the annual GOA harvest specifications.

CPs participating in Rockfish Program cooperatives are restricted by rockfish and halibut PSC sideboard limits. These CPs are prohibited from directed fishing for dusky rockfish, Pacific ocean perch, and northern rockfish in the Western GOA and West Yakutat District from July 1 through July 31 (§ 679.82(e)(2)). The sideboard ratio for each rockfish fishery in the West Yakutat District is set forth in § 679.82(e)(4). The rockfish sideboard ratio for each rockfish fishery in the West Yakutat District is an established percentage of the TAC for catcher/processors in the directed fishery for dusky rockfish and Pacific ocean perch. These percentages are confidential. Holders of CP-designated LLP licenses that opt out of participating in a Rockfish Program cooperative will be able to access that portion of each rockfish sideboard limits that is not assigned to Rockfish Program cooperatives (§ 679.82(e)(7)).

Under the Rockfish Program, the CP sector is subject to halibut PSC sideboard limits for the trawl deep-water and shallow-water species fisheries from July 1 through July 31 (§ 679.82(e)(3) and (e)(5)). Halibut PSC sideboard ratios by fishery are set forth in § 679.82(e)(5). No halibut PSC sideboard limits apply to the CV sector, as vessels participating in a rockfish cooperative receive a portion of the annual halibut PSC limit. CPs that opt out of the Rockfish Program would be able to access that portion of the deep-water and shallow-water halibut PSC sideboard limit not assigned to CP rockfish cooperatives. The sideboard provisions for CPs that elect to opt out of participating in a rockfish cooperative are described in § 679.82(c), (e), and (f). Sideboard limits are linked to the catch history of specific vessels that may choose to opt out. After March 1, NMFS will determine which CPs have opted-out of the Rockfish Program in 2024, and will know the ratios and amounts used to calculate opt-out sideboard ratios. NMFS will then calculate any applicable opt-out sideboard limits for 2024 and announce these limits after March 1. Table 17 lists the proposed 2024 and 2025 Rockfish Program halibut PSC sideboard limits for the CP sector.

Table 17—Proposed 2024 and 2025 Rockfish Program Halibut PSC Sideboard Limits for the Catcher/Processor Sector
[Values are rounded to the nearest metric ton]
Sector | Shallow-water species fishery halibut PSC sideboard ratio (percent) | Deep-water species fishery halibut PSC sideboard ratio (percent) | Annual trawl gear halibut PSC limit (mt) | Annual shallow- water species fishery halibut PSC sideboard limit (mt) | Annual deep- water species fishery halibut PSC sideboard limit (mt)
Catcher/processor | 0.10 | 2.50 | 1,705 | 2 | 43

Amendment 80 Program Groundfish and PSC Sideboard Limits

Amendment 80 to the Fishery Management Plan for Groundfish of the Bering Sea and Aleutian Islands Management Area (Amendment 80 Program) established a limited access privilege program for the non-AFA trawl CP sector. The Amendment 80 Program established groundfish and halibut PSC limits for Amendment 80 Program participants to limit the ability of participants eligible for the Amendment 80 Program to expand their harvest efforts in the GOA.

Section 679.92 establishes groundfish harvesting sideboard limits on all Amendment 80 Program vessels, other than the F/V Golden Fleece, to amounts no greater than the limits shown in Table 37 to 50 CFR part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004 (72 FR 52668, September 14, 2007). Table 18 lists the proposed 2024 and 2025 groundfish sideboard limits for Amendment 80 Program vessels. NMFS will deduct all targeted or incidental catch of sideboard species made by Amendment 80 Program vessels from the sideboard limits in table 18.

Table 18—Proposed 2024 and 2025 GOA Groundfish Sideboard Limits for Amendment 80 Program Vessels
[Values are rounded to the nearest metric ton]
Species | Season | Area | Ratio of Amendment 80 sector vessels 1998-2004 catch to TAC | Proposed 2024 and 2025 TAC (mt) ³ | Proposed 2024 and 2025 Amendment 80 vessel sideboard limits (mt)
Pollock | A Season: January 20-May 31 | Shumagin (610) | 0.003 | 1,823 | 5
|  | Chirikof (620) | 0.002 | 62,771 | 126
|  | Kodiak (630) | 0.002 | 9,864 | 20
| B Season: September 1-November 1 | Shumagin (610) | 0.003 | 27,333 | 82
|  | Chirikof (620) | 0.002 | 20,511 | 41
|  | Kodiak (630) | 0.002 | 26,614 | 53
| Annual | WYK (640) | 0.002 | 8,136 | 16
Pacific cod | A Season: ¹ January 1-June 10 | W | 0.020 | 3,067 | 61
|  | C | 0.044 | 6,566 | 289
| B Season: ² September 1-December 31 | W | 0.020 | 1,744 | 35
|  | C | 0.044 | 3,675 | 162
| Annual | WYK | 0.034 | 1,616 | 55
Pacific ocean perch | Annual | W | 0.994 | 2,461 | 2,446
|  | WYK | 0.961 | 1,333 | 1,281
Northern rockfish | Annual | W | 1.000 | 2,497 | 2,497
Dusky rockfish | Annual | W | 0.764 | 141 | 108
|  | WYK | 0.896 | 85 | 76
¹ The Pacific cod A season for trawl gear does not open until January 20.
² The Pacific cod B season for trawl gear closes November 1.
³ The Western and Central GOA and WYK District area apportionments of pollock are considered Annual Catch Limits.

The halibut PSC sideboard limits for Amendment 80 Program vessels in the GOA are based on the historical use of halibut PSC by Amendment 80 Program vessels in each PSC target category from 1998 through 2004. These values are slightly lower than the average historical use to accommodate two factors: allocation of halibut PSC cooperative quota under the Rockfish Program and the exemption of the F/V Golden Fleece from this restriction (§ 679.92(b)(2)). Table 19 lists the proposed 2024 and 2025 halibut PSC sideboard limits for Amendment 80 Program vessels. This table incorporates the maximum percentages of the halibut PSC sideboard limits that may be used by Amendment 80 Program vessels as contained in Table 38 to 50 CFR part 679. Any residual amount of a seasonal Amendment 80 halibut PSC sideboard limit may carry forward to the next season limit (§ 679.92(b)(2)).

Table 19—Proposed 2024 and 2025 Halibut PSC Sideboard Limits for Amendment 80 Program Vessels in the GOA
[Values are rounded to the nearest metric ton]
Season | Season dates | Fishery category | Historic Amendment 80 use of the annual halibut PSC limit (ratio) | Annual trawl gear halibut PSC limit (mt) | Proposed 2024 and 2025 Amendment 80 vessel PSC sideboard limit (mt)
1 | January 20-April 1 | shallow-water | 0.0048 | 1,705 | 8
|  | deep-water | 0.0115 | 1,705 | 20
2 | April 1-July 1 | shallow-water | 0.0189 | 1,705 | 32
|  | deep-water | 0.1072 | 1,705 | 183
3 | July 1-August 1 | shallow-water | 0.0146 | 1,705 | 25
|  | deep-water | 0.0521 | 1,705 | 89
4 | August 1-October 1 | shallow-water | 0.0074 | 1,705 | 13
|  | deep-water | 0.0014 | 1,705 | 2
5 | October 1-December 31 | shallow-water | 0.0227 | 1,705 | 39
|  | deep-water | 0.0371 | 1,705 | 63
Annual | Total shallow-water |  |  | 117
| Total deep-water |  |  | 357
| Grand Total, all seasons and categories |  |  | 474

Classification

NMFS is issuing this proposed rule pursuant to section 305(d) of the Magnuson-Stevens Act. Through previous actions, the FMP and regulations are designed to authorize NMFS to take this action. See 50 CFR part 679. The NMFS Assistant Administrator has preliminarily determined that the proposed harvest specifications are consistent with the FMP, the Magnuson-Stevens Act, and other applicable laws, subject to further review and consideration after public comment.

This action is authorized under 50 CFR 679.20 and is exempt from review under Executive Order 12866 because it only implements annual catch limits in the GOA.

NMFS prepared an EIS for the Alaska groundfish harvest specifications and alternative harvest strategies (see ADDRESSES) and made it available to the public on January 12, 2007 (72 FR 1512). On February 13, 2007, NMFS issued the ROD for the Final EIS. A SIR is being prepared for the final 2024 and 2025 harvest specifications to provide a subsequent assessment of the action and to address the need to prepare a Supplemental EIS (40 CFR 1501.11(b); § 1502.9(d)(1)). Copies of the Final EIS, ROD, and annual SIRs for this action are available from NMFS (see ADDRESSES). The Final EIS analyzes the environmental, social, and economic consequences of alternative harvest strategies on resources in the action area. Based on the analysis in the Final EIS, NMFS concluded that the preferred Alternative (Alternative 2) provides the best balance among relevant environmental, social, and economic considerations and allows for continued management of the groundfish fisheries based on the most recent, best scientific information.

Initial Regulatory Flexibility Analysis

This Initial Regulatory Flexibility Analysis (IRFA) was prepared for this proposed rule, as required by Section 603 of the Regulatory Flexibility Act (RFA) (5 U.S.C. 603), to describe the economic impact that this proposed rule, if adopted, would have on small entities. The IRFA describes the action; the reasons why this proposed rule is proposed; the objectives and legal basis for this proposed rule; the estimated number and description of directly regulated small entities to which this proposed rule would apply; the recordkeeping, reporting, and other compliance requirements of this proposed rule; and the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained earlier in the preamble and are not repeated here.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. A shoreside processor primarily involved in seafood processing (NAICS code 311710) is classified as a small business if it is independently owned and operated, is not dominant in its field of operation (including its affiliates), and has combined annual employment, counting all individuals employed on a full-time, part-time, or other basis, not in excess of 750 employees for all its affiliated operations worldwide.

Number and Description of Small Entities Regulated by This Proposed Rule

The entities directly regulated by the groundfish harvest specifications include: (a) entities operating vessels with groundfish Federal fisheries permits (FFPs) catching FMP groundfish in Federal waters (including those receiving direction allocations of groundfish); (b) all entities operating vessels, regardless of whether they hold groundfish FFPs, catching FMP groundfish in the State-waters parallel fisheries; and (c) all entities operating vessels fishing for halibut inside 3 miles of the shore (whether or not they have FFPs).

In 2022 (the most recent year of complete data), there were 677 individual CVs and CPs with gross revenues less than or equal to $11 million. This represents the potential suite of directly regulated small entities. This includes an estimated 674 small CV and 3 small CP entities in the GOA groundfish sector. The determination of entity size is based on vessel revenues and affiliated group revenues. This determination also includes an assessment of fisheries cooperative affiliations, although actual vessel ownership affiliations have not been completely established. However, the estimate of these 677 CVs and CPs may be an overstatement of the number of small entities. The CVs had average gross revenues that varied by gear type. Average gross revenues for hook-and-line CVs, pot gear CVs, and trawl gear CVs are estimated to be $450,000, $860,000, and $1.38 million, respectively. Average gross revenues for hook-and-line CPs and pot gear CPs are estimated to be $7.40 million and $6.87 million, respectively. Trawl gear CP entity revenue data are confidential.

Description of Significant Alternatives That Minimize Adverse Impacts on Small Entities

The action under consideration is the proposed 2024 and 2025 harvest specifications, apportionments, and Pacific halibut prohibited species catch limits for the groundfish fishery of the GOA. This action is necessary to establish harvest limits for groundfish during the 2024 and 2025 fishing years and is taken in accordance with the FMP prepared by the Council pursuant to the Magnuson-Stevens Act. The establishment of the proposed harvest specifications is governed by the Council and NMFS's harvest strategy to govern the catch of groundfish in the GOA. This strategy was selected from among five alternatives, with the preferred alternative harvest strategy being one in which the TACs fall within the range of ABCs recommended by the SSC. Under the preferred harvest strategy, TACs are set to a level that falls within the range of ABCs recommended by the SSC; the sum of the TACs must achieve the OY specified in the FMP. While the specific numbers that the harvest strategy produces may vary from year to year, the methodology used for the preferred harvest strategy remains constant.

The TACs associated with preferred harvest strategy are those recommended by the Council in October 2023. OFLs and ABCs for the species were based on recommendations prepared by the Council's Plan Team in September 2023, and reviewed by the Council's SSC in October 2023. The Council based its TAC recommendations on those of its AP, which were consistent with the SSC's OFL and ABC recommendations. The TACs in these proposed 2024 and 2025 harvest specifications are unchanged from the 2023 TACs in the final 2023 and 2024 harvest specifications (88 FR 13238, March 2, 2023), and the sum of all TACs remains within the OY for the GOA.

The proposed 2024 and 2025 OFLs and ABCs are based on the best biological information available, including projected biomass trends, information on assumed distribution of stock biomass, and revised technical methods to calculate stock biomass. The proposed 2024 and 2025 TACs are based on the best biological and socioeconomic information available. The proposed 2024 and 2025 OFLs, ABCs, and TACs are consistent with the biological condition of groundfish stocks as described in the 2022 SAFE report, which is the most recent, completed SAFE report.

Under this action, the proposed ABCs reflect harvest amounts that are less than the specified overfishing levels. The proposed TACs are within the range of proposed ABCs recommended by the SSC and do not exceed the biological limits recommended by the SSC (the ABCs and OFLs). For most species and species groups in the GOA, the Council recommended, and NMFS proposes, TACs equal to proposed ABCs, which is intended to maximize harvest opportunities in the GOA.

For some species and species groups, however, the Council recommended, and NMFS proposes, TACs that are less than the proposed ABCs, including for pollock in the W/C/WYK Regulatory Area, Pacific cod, shallow-water flatfish in the Western Regulatory Area, arrowtooth flounder in the Western Regulatory Area and SEO District, flathead sole in the Western Regulatory Area, other rockfish in the SEO District, and Atka mackerel. In the GOA, increasing TACs for some species may not result in increased harvest opportunities for those species. This is due to a variety of reasons. There may be a lack of commercial or market interest in some species. Additionally, there are fixed, and therefore constraining, PSC limits associated with the harvest of the GOA groundfish species that can lead to an underharvest of flatfish TACs. For this reason, the shallow-water flatfish, arrowtooth flounder, and flathead sole TACs are set to allow for increased harvest opportunities for these target species while conserving the halibut PSC limit for use in other fisheries. The other rockfish and Atka mackerel TACs are set to accommodate ICAs in other fisheries. Finally, the TACs for two species (pollock and Pacific cod) cannot be set equal to ABC, as the TAC must be set to account for the State's GHLs in these fisheries. The W/C/WYK Regulatory Area pollock TAC and the GOA Pacific cod TACs are therefore set to account for the State's GHLs for the State waters pollock and Pacific cod fisheries so that the ABCs are not exceeded. For all other species in the GOA, the Council recommended, and NMFS proposes, that proposed TACs equal proposed ABCs, unless other conservation or management reasons (described above) support proposed TAC amounts less than the proposed ABCs.

Based upon the best scientific data available, and in consideration of the objectives of this action, it appears that there are no significant alternatives to the proposed rule that have the potential to accomplish the stated objectives of the Magnuson-Stevens Act and any other applicable statutes and that have the potential to minimize any significant adverse economic impact of the proposed rule on small entities. This action is economically beneficial to entities operating in the GOA, including small entities. The action proposes TACs for commercially valuable species in the GOA and allows for the continued prosecution of the fishery, thereby creating the opportunity for fishery revenue. After public process, during which the Council solicited input from stakeholders, the Council recommended the proposed harvest specifications, which NMFS determines would best accomplish the stated objectives articulated in the preamble for this proposed rule, and in applicable statutes, and would minimize to the extent practicable adverse economic impacts on the universe of directly regulated small entities.

This action does not modify recordkeeping or reporting requirements, or duplicate, overlap, or conflict with any Federal rules.

This proposed rule contains no information collection requirements under the Paperwork Reduction Act of 1995.

Adverse impacts on marine mammals or endangered or threatened species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: December 1, 2023.
Samuel D. Rauch, III,
Deputy Assistant Administrator for Regulatory Programs, National Marine Fisheries Service.

[FR Doc. 2023-26807 Filed 12-4-23; 4:15 pm]

BILLING CODE 3510-22-P